ENVIRONMENTAL PROTECTION AGENCY

40 CFR Part 180

[OPP-2002-0021; FRL-6834-2]

Pesticides; Tolerance Exemptions for Polymers

AGENCY: Environmental Protection Agency (EPA).

ACTION: Direct final rule.

SUMMARY: EPA is taking direct final rule action to add a new section which lists the pesticide chemicals that are exempt from the requirement of a tolerance because they meet the criteria established by the Agency to identify certain polymers that are of low risk. This section contains those polymers whose tolerance exemptions were established post-Food Quality Protection Act (FQPA) of 1996 and are based on the polymer's meeting the criteria described in 40 CFR 723.250. The Agency is acting on its own initiative.

DATES: This direct final rule is effective on September 23, 2002, without further notice, unless EPA receives a relevant adverse comment by July 23, 2002. If EPA receives a relevant adverse comment, EPA will publish a timely withdrawal in the Federal Register informing the public that this direct final rule will not take effect.

ADDRESSES: Comments may be submitted by mail, electronically, or in person. Please follow the detailed instructions for each method as provided in Unit I. of the SUPPLEMENTARY INFORMATION. It is imperative that you identify docket ID number OPP-2002-0021 in the subject line on the first page of your response.

FOR FURTHER INFORMATION CONTACT: Kathryn Boyle, Registration Division (7505C), Office of Pesticide Programs, Environmental Protection Agency, 1200 Pennsylvania Ave., NW., Washington, DC 20460; telephone number: (703) 305-6304; fax number: (703) 305-0599; e-mail address: boyle.kathryn@epa.gov.

SUPPLEMENTARY INFORMATION:

I. General Information

A. Does this Action Apply to Me?

You may be potentially affected by this action if you are an agricultural producer, food manufacturer, pesticide manufacturer, or antimicrobial pesticide manufacturer. Potentially affected categories and entities may include, but are not limited to:

Categories | NAICS codes | Examples of potentially affected entities
Industry | 111 112 311 32532 32561 | Crop production Animal production Food manufacturing Pesticide manufacturing Antimicrobial pesticides

This listing is not intended to be exhaustive, but rather provides a guide for readers regarding entities likely to be affected by this action. Other types of entities not listed in this table could also be affected. The North American Industrial Classification System (NAICS) codes are provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR part 180 is available at http://www.access.gpo.gov/nara/cfr/cfrhtml_00/Title_40/40cfr180_00.html, a beta site currently under development.

2. In person. The Agency has established an official record for this action under docket ID number OPP-2002-0021. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0021 in the subject line on the first page of your response. EPA also encourages you to submit your comments electronically, if at all possible, which will facilitate timely receipt by the Agency and avoid potential delays associated with the processing of government mail.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket ID number OPP-2002-0021. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the direct final rule.

7. Make sure to submit your comments by the deadline in this document.

8. To ensure proper receipt by EPA, be sure to identify the docket ID number assigned to this action in the subject line on the first page of your response. You may also provide the name, date, and Federal Register citation.

II. Authority

A. What is the Agency's Authority for Taking this Action?

This direct final rule is issued pursuant to section 408(e) of the Federal Food, Drug, and Comestic Act (FFDCA), as amended by FQPA (21 U.S.C. 346a(e)). Section 408 of FFDCA authorizes the establishment of tolerances, exemptions from the requirement of a tolerance, modifications in tolerances, and revocation of tolerances for residues of pesticide chemicals in or on raw agricultural commodities and processed foods. Without a tolerance or tolerance exemption, food containing pesticide residues is considered to be unsafe and therefore “adulterated” under section 402(a) of FFDCA. If food containing pesticide residues is found to be adulterated, the food may not be distributed in interstate commerce (21 U.S.C. 331(a) and 342 (a)).

B. Why is EPA Issuing this as a Direct Final Rule?

EPA is issuing this action as a direct final rule without prior proposal because the Agency believes that this action is not controversial and is not likely to result in any adverse comments, inasmuch as this action simply shifts existing tolerance exemptions for certain polymers from one paragraph of 40 CFR 180.1001 to a new section in 40 CFR part 180. It will not alter the quantity or nature of residues that might lawfully be present in food or feed.

This direct final rule is effective on September 23, 2002, without further notice, unless EPA receives a relevant adverse comment by July 23, 2002. If however, EPA receives a relevant adverse comment during the comment period, then EPA will publish a timely withdrawal in the Federal Register informing the public that the direct final rule will not take effect. EPA will also publish a proposed rulemaking in a future edition of the Federal Register. EPA will address the comments on the direct final rule as part of that proposed rulemaking.

III. What Action is the Agency Taking?

EPA is establishing a new § 180.960 to contain exemptions from the requirement of a tolerance for polymers that under reasonably foreseeable circumstances will pose no appreciable risks to human health. The Agency has established a set of criteria to identify categories of polymers that should present low or no risk. The definition of a polymer is given in 40 CFR 723.250(b). The criteria for molecular weight (MW) and oligomeric material are specified in 40 CFR 723.250(e). The following exclusion criteria for identifying these low-risk polymers are described in 40 CFR 723.250(d).

1. The polymer is not a cationic polymer nor is it reasonably anticipated to become a cationic polymer in a natural aquatic environment.

2. The polymer does contain as an integral part of its composition the atomic elements carbon, hydrogen, and oxygen.

3. The polymer does not contain as an integral part of its composition, except as impurities, any element other than those listed in 40 CFR 723.250(d)(2)(ii).

4. The polymer is neither designed nor can it be reasonably anticipated to substantially degrade, decompose, or depolymerize.

5. The polymer is manufactured or imported from monomers and/or reactants that are already included on the Toxic Substances Control Act (TSCA) Chemical Substance Inventory or manufactured under an applicable TSCA section 5 exemption.

6. The polymer is not a water absorbing polymer with a number average MW greater than or equal to 10,000 daltons.

IV. Why are the Recodified Polymers Expressed in a Different Manner in the New Section?

These polymers were approved for use in pesticide products using criteria that identify low-risk polymers. Given the use of these criteria for approving certain polymers, defining appropriate limitations or use patterns is unnecessary. All polymers approved using these criteria can be used as an inert ingredient in any pesticide chemical product, including antimicrobial pesticide products, provided that such use is in accordance with good agricultural or manufacturing practices. In fact, creation of the new section will streamline the tolerance exemptions in 40 CFR part 180 since low-risk polymers need only be listed once, instead of being separately listed in multiple sections.

V. Regulatory Assessment Requirements

EPA is taking direct final action to add a new section to part 180, subpart D which lists the pesticide chemicals that are polymers approved for use in pesticide products using the criteria in 40 CFR 723.250 that identify a low-risk polymer. This section contains those polymers whose tolerance exemptions were established post-FQPA based on the criteria described in 40 CFR 723.250 . Since this direct final rule does not impose any new requirements, it is not subject to review by the Office of Management and Budget (OMB) under Executive Order 12866, entitled Regulatory Planning and Review (58 FR 51735, October 4, 1993), Executive Order 13045, entitled Protection of Children from Environmental Health Risks and Safety Risks (62 FR 19885, April 23, 1997), or Executive Order 13211, entitled Actions Concerning Regulations That Significantly Affect Energy Supply, Distribution, or Use (66 FR 28355, May 22, 2001).

This direct final rule directly regulates food processors, food handlers, and food retailers, but does not affect States, local, or Tribal governments directly. This action does not alter the relationships or distribution of power and responsibilities established by Congress in the preemption provisions of FFDCA section 408(n)(4). This action will not have substantial direct effects on State or tribal governments, on the relationship between the Federal government and States, or Indian tribes, or on the distribution of power and responsibilities between the Federal government and States or Indian tribes. As a result, this action does not require any action under Executive Order 13132, entitled Federalism (64 FR 43255, August 10, 1999), or under Executive Order 13175, entitled Consultation and Coordination with Indian Tribal Governments (65 FR 67249, November 6, 2000). Nor does it impose any enforceable duty or contain any unfunded mandate as described under Title II of the Unfunded Mandates Reform Act of 1995 (UMRA) (Public Law 104-4).

Nor does it require special considerations under Executive Order 12898, entitled Federal Actions to Address Environmental Justice in Minority Populations and Low-Income Populations (59 FR 7629, February 16, 1994); or Executive Order 12630, entitled Governmental Actions and Interference with Constitutionally Protected Property Rights (53 FR 8859, March 15, 1988).

This action does not involve any technical standards that would require Agency consideration of voluntary consensus standards pursuant to section 12(d) of the National Technology Transfer and Advancement Act of 1995 (NTTAA), Public Law 104-113, section 12(d) (15 U.S.C. 272 note).

Under section 605(b) of the Regulatory Flexibility Act (RFA) (5 U.S.C. 601 et seq.), the Agency hereby certifies that the creation of a new § 180.960 will not have significant negative economic impact on a substantial number of small entities. The rationale supporting this conclusion is as follows. This direct final rule does not impose any requirements; rather, it simply reorganizes requirements currently existing in EPA regulations. No existing tolerance exemptions are lost by the creation of the new section.

VI. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this rule in the Federal Register. This rule is not a “major rule” as defined by 5 U.S.C. 804(2).

List of Subjects in 40 CFR Part 180

Environmental protection, Administrative practice and procedure, Pesticides and pests, Reporting and recordkeeping requirements.

Dated: May 14, 2002.
Marcia E. Mulkey,
Director, Office of Pesticide Programs.

Therefore, 40 CFR chapter I is amended as follows:

PART 180—[AMENDED]

1. The authority citation for part 180 continues to read as follows:

Authority: 21 U.S.C. 321(q), 346 (a) and 374.

2. A new § 180.960 is added to subpart D of part 180 to read as follows:

§ 180.960 Polymers; exemptions from the requirement of a tolerance.

Residues resulting from the use of the following substances, that meet the definition of a polymer and the criteria specified for defining a low-risk polymer in 40 CFR 723.250, as an inert ingredient in a pesticide chemical formulation, including antimicrobial pesticide chemical formulations, are exempted from the requirement of a tolerance under FFDCA section 408, if such use is in accordance with good agricultural or manufacturing practices.

Polymer | CAS No.
Acrylic acid, styrene, α-methyl styrene copolymer, ammonium salt, minimum number average molecular weight (in amu), 1,250 | 89678-90-0
Acrylic acid terpolymer, partial sodium salt, minimum number average molecular weight (in amu), 2,400 | 151006-66-5
Acrylic polymers composed of one or more of the following monomers: Acrylic acid, methyl acrylate, ethyl acrylate, butyl acrylate, hydroxyethyl acrylate, hydroxypropyl acrylate, hydroxybutyl acrylate, carboxyethyl acrylate, methacrylic acid, methyl methacrylate, ethyl methacrylate, butyl methacrylate, isobutyl methacrylate, hydroxyethyl methacrylate, hydroxypropyl methacrylate, hydroxybutyl methacrylate, lauryl methacrylate, and stearyl methacrylate; with none and/or one or more of the following monomers: Acrylamide, N-methyl acrylamide, N-octylacrylamide, maleic anhydride, maleic acid, monoethyl maleate, diethyl maleate, monooctyl maleate, dioctyl maleate; and their corresponding sodium potassium, ammonium, isopropylamine, triethylamine, monoethanolamine, and/or triethanolamine salts; the resulting polymer having a minimum number average molecular weight (in amu), 1,200 | None
α-alkyl (C12-C15) - ω- hydroxypoly(oxypropylene)poly(oxyethylene)copolymers (where the poly(oxypropylene) content is 3-60 moles and the poly(oxyethylene) content is 5-80 moles), the resulting ethoxylated propoxylated (C12-C15) alcohols having a minimum molecular weight (in amu), 1,500 | 68551-13-3
Butene, homopolymer minimum number average molecular weight (in amu), 1,330 | 9003-29-6
Butyl acrylate-vinyl acetate-acrylic acid copolymer, minimum number average molecular weight (in amu), 18,000 | 65405-40-5
Dimethylpolysiloxane minimum number average molecular weight (in amu), 6,800 | 63148-62-9
Dimethyl silicone polymer with silica, minimum number average molecular weight (in amu), 1,100,000 | 67762-90-7
1, 2-Ethanediamine, polymer with methyl oxirane and oxirane, minimum number average molecular weight (in amu), 1,100 | 26316-40-5
Hexamethyl disilizane, reaction product with silica, minimum number average molecular weight (in amu), 645,000 | 68909-20-6
12-Hydroxystearic acid-polyethylene glycol copolymer, minimum number average molecular weight (in amu), 3,690 | 70142-34-6
Maleic anhydride-diisobutylene copolymer, sodium salt, minimum number average molecular weight (in amu) 5,0007-18,000 | 37199-81-8
Maleic anhydride-methylstyrene copolymer sodium salt, minimum number average molecular weight (in amu), 15,000 | 60092-15-1
Methacrylic acid-methyl methacrylate-polyethylene glycol methyl ether methacrylate copolymer, minimum number averge molecular weight (in amu), 3,700 | 100934-04-1
Methacrylic copolymer, minimum number average molecular weight (in amu), 15,000 | 63150-03-8
Methyl methacrylate-methacrylic acid-monomethoxypolyethylene glycol methacrylate copolymer,) minimum number average molecular weight (in amu), 2,730 | 119724-54-8
Oxirane, methyl-, polymer with oxirane, mono[2-(2-butoxyethoxy) ethyl] ether, minimum number average molecular weight (in amu), 2,500 | 85637-75-8
Polyethylene glycol-polyisobutenyl anhydride-tall oil fatty acid copolymer, minimum number average molecular weight (in amu), 2,960 | 68650-28-2
Polyoxyethylated sorbitol fatty acid esters; the sorbitol solution containing up to 15% water is reacted with 20-50 moles of ethylene oxide and aliphatic alkanoic and/or alkenoic fatty acids C8 through C22 with minor amounts of associated fatty acids; the resulting polyoxyethylene sorbitol ester having a minimum molecular weight (in amu), 1,300 | None
Polyvinyl chloride, minimum number average molecular weight (in amu), 29,000 | 9002-86-2
Polyvinyl acetate, copolymer with maleic anhydride, partially hydrolyzed, sodium salt, minimum number average molecular weight (in amu), 53,000 | None
Polyvinylpyrrolidone butylated polymer, minimum number average molecular weight (in amu), 9,500 | 26160-96-3
2-Propene-1-sulfonic acid sodium salt, polymer with ethenol and ethenyl acetate, number average molecular weight (in amu) 6,000-12,000 | None
2-Propenoic acid, polymer with 2-propenamide, sodium salt, minimum number average molecular weight (in amu), 18,000 | 25085-02-3
2-Propenoic acid, sodium salt, polymer with 2-propenamide, minimum number average molecular weight (in amu), 18,000 | 25987-30-8
Silane, dichloromethyl- reaction product with silica minimum number average molecular weight (in amu), 3,340,000 | 68611-44-9
Styrene, copolymers with acrylic acid and/or methacrylic acid, with none and/or one or more of the following monomers: Acrylamidopropyl methyl sulfonic acid, methallyl sulfonic acid, 3-sulfopropyl acrylate, 3-sulfopropyl methacrylate, hydroxypropyl methacrylate, hydroxypropyl acrylate, hydroxyethyl methacrylate, and/or hydroxyethyl acrylate; and its sodium, potassium, ammonium, monoethanolamine, and triethanolamine salts; the resulting polymer having a minimum number average molecular weight (in amu), 1,200 | None
Styrene, 2-ethylhexyl acrylate, butyl acrylate copolymer, minimum number average molecular weight (in amu), 4,200 | 30795-23-4
Tetraethoxysilane, polymer with hexamethyldisiloxane, minimum number average molecular weight (in amu), 6,500 | 104133-09-7
Vinyl acetate polymer with none and/or one or more of the following monomers: Ethylene, propylene, N-methyl acrylamide, acrylamide, monoethyl maleate, diethyl maleate, monooctyl maleate, dioctyl maleate, maleic anhydride, maleic acid, octyl acrylate, butyl acrylate, ethyl acrylate, methyl acrylate, acrylic acid, octyl methacrylate, butyl methacrylate, ethyl methacrylate, methyl methacrylate, methacrylic acid, carboxyethyl acrylate, and diallyl phthalate; and their corresponding sodium, potassium, ammonium, isopropylamine, triethylamine, monoethanolamine and/or triethanolamine salts; the resulting polymer having a minimum number average molecular weight (in amu), 1,200 | None
Vinyl alcohol-vinyl acetate copolymer, benzaldehyde-o-sodium sulfonate condensate, minimum number average molecular weight (in amu), 20,000 | None
Vinyl pyrrolidone-acrylic acid copolymer, minimum number average molecular weight (in amu), 6,000 | 28062-44-4

§ 180.1001 [Amended]

3. Section 180.1001 is amended as follows:

i. The table in paragraph (c) is amended by removing the entries listed below:

Inert ingredients | Limits | Uses
* * * * * * *
Acrylic acid, styrene, α-methyl styrene Copolymer, ammonium salt (CAS Reg. No. 89678-90-0), minimum number average molecular weight (in amu) 1250 |  | Encapsulating agent, dispensers, resins, fibers and beads
Acrylic acid terpolymer, partial sodium salt (CAS Reg. No. 151006-66-5), minimum number average molecular weight (in amu) 2,400 |  | Dispersant
Acrylic polymers composed of one or more of the following monomers: Acrylic acid, methyl acrylate, ethyl acrylate, butyl acrylate, hydroxyethyl acrylate, hydroxypropyl acrylate, hydroxybutyl acrylate, carboxyethyl acrylate, methacrylic acid, methyl methacrylate, ethyl methacrylate, butyl methacrylate, isobutyl methacrylate, hydroxyethyl methacrylate, hydroxypropyl methacrylate, hydroxybutyl methacrylate, lauryl methacrylate, and stearyl methacrylate; with none and/or one or more of the following monomers: Acrylamide, N-methyl acrylamide, N-octylacrylamide, maleic anhydride, maleic acid, monoethyl maleate, diethyl maleate, monooctyl maleate, dioctyl maleate; and their corresponding sodium, potassium, ammonium, isopropylamine, triethylamine, monoethanolamine,and/or triethanolamine salts; the resulting polymer having a minimum number average molecular weight (in amu) 1,200 |  | Components of films, binders, carriers, adhesives, or related adjuvants
* * * * * * *
α-alkyl (C12-C15)-ω-hydroxypoly (oxypropylene)poly (oxyethylene)copolymers (where the poly(oxypropylene) content is 3-60 moles and the poly(oxyethylene) content is 5-80 moles), the resulting ethoxylated propoxylated (C12-C15) alcohols having a minimum molecular weight (in amu) of 1,500, CAS Reg. No. 68551-13-3 | Not to exceed 20% of pesticide formulations | Surfactant
* * * * * * *
Butene, homopolymer minimum number average molecular weight (in amu) 1,330 (CAS Reg. No. 9003-29-6) |  | Sticker, surfactant and related adjuvant
Butyl acrylate-vinyl acetate-acrylic acid copolymer (CAS Reg. No. 65405-40-5), minimum number average molecular weight 18,000 daltons |  | Surfactants, related adjuvants of surfactants
* * * * * * *
Dimethyl silicone polymer with silica, Minimum number average molecular weight (in amu) 1,100,000 daltons, CAS Reg. No. 67762-90-7 |  | Moisture barrier, anti-caking agent, anti-settling agent, thickening agent
Dimethylpolysiloxane minimum number average molecular weight (in amu) 6,800 (CAS Reg. No. 63148-62-9) |  | Defoaming agent
* * * * * * *
1,2-Ethanediamine, polymer with methyl oxirane and oxirane, 1,100 minimum number average molecular weight (in amu) (CAS Reg. No. 26316-40-5) |  | Surfactant, dispersing agent
* * * * * * *
Hexamethyldisilizane, reaction product with silica, minimum number average molecular weight (in amu) 645,000 daltons, CAS Reg. No. 68909-20-6 |  | Moisture barrier, anti-caking agent, anti-settling agent, thickening agent
* * * * * * *
12-Hydroxystearic acid-polyethylene glycol copolymer (CAS Reg. No. 70142-34-6) minimum number average molecular weight (in amu) 3,690 |  | Surfactant, dispersing agent, suspending agent, related adjuvant.
* * * * * * *
Maleic anhydride- diisobutylene copolymer, sodium salt (CAS Reg. No. 37199-81-8), minimum number average molecular weight (in amu) 5,000-18,000 |  | Suspending agent and dispersing agent
Maleic anhydride-α-methylstyrene copolymer sodium salt, minimum number average molecular weight (in amu) is 15,000 (CAS Reg. No. 60092-15-1) |  | Surfactant
* * * * * * *
Methacrylic acid-methyl methacrylate-polyethylene glycol methyl ether methacrylate copolymer, minimum number average molecular weight (in amu) is 3,700 (CAS Reg. No. 100934-04-1) |  | Surfactant
Methacrylic Copolymer (CAS Reg. No. 63150-03-8), minimum number average molecular weight (in amu) 15,000 |  | Inert
* * * * * * *
Methyl methacrylate-methacrylic acid-monomethoxypolyethylene glycol methacrylate copolymer (CAS Reg. No. 119724-54-8) minium number average molecular weight (in amu) 2,730 |  | Surfactant, dispersing agent, suspending agent, related adjuvant.
* * * * * * *
Oxirane, methyl-, polymer with oxirane, mono[2-(2-butoxyethoxy) ethyl]ether CAS Reg. No. 85637-75-8), minimum number average molecular weight (in .amu) 2,500 | 15% Max | Emulsifier, dispersant, Surfactant or related adjuvant of surfactant.
* * * * * * *
Polyethylene glycol-polyisobutenyl anhydride-tall oil fatty acid copolymer (CAS Reg. No. 68650-28-2) minimum number average molecular weight (in amu) 2,960 |  | Surfactant, dispersing agent, suspending agent, related adjuvant.
* * * * * * *
Polyoxyethylated sorbitol fatty acid esters; the sorbitol solution containing up to 15% water is reacted with 20-50 moles of ethylene oxide and aliphatic alkanoic and/or alkenoic fatty acids C8 through C22 with minor amounts of associated fatty acids; the resulting polyoxyethylene sorbitol ester having a minimum MW (in amu) of 1,300 |  | Dispersants, emulsifiers, surfactants, related adjuvants of surfactants.
* * * * * * *
Polyvinyl acetate, copolymer with maleic anhydride, partially hydrolyzed, sodium salt, minimum number average MW (in amu), 53,000 |  | Component of water soluble films
Polyvinyl chloride (CAS Reg. No. 9002-86-2), minimum number average molecular weight (in amu) 29,000 |  | Carrier
* * * * * * *
Polyvinylpyrrolidone butylated polymer (CAS Reg. No. 26160-96-3), minimum number average molecular weight (in amu) 9,500 |  | Surfactants, related adjuvant of surfactants and binder
* * * * * * *
2-Propene-1-sulfonic acid sodium salt, polymer with ethenol and ethenyl acetate, number average molecular weight (in amu) 6,000-12,000 |  | Binding agent
2-Propenoic acid, polymer with 2-propenamide, sodium salt, minimum number average molecular weight (in amu), 18,000; CAS Reg. No. 25085-02-3 |  | Carrier
2-Propenoic acid, sodium salt, polymer with 2-propenamide, minium number average molecular weight (in amu), 18,000; CAS Reg. No. 25987-30-8 |  | Carrier
* * * * * * *
Silane, dichloromethyl-, reaction product with silica minimum number average molecular weight (in amu) 3,340,000 daltons, CAS Reg. No. 68611-44-9 |  | Moisture barrier, anti-caking agent, anti-settling agent, thickening agent
* * * * * * *
Styrene, 2-ethylhexyl acrylate, butyl acrylate copolymer (CAS Reg. No. 30795-23-4), minimum number average molecular weight (in amu) 4,200 |  | Encapsulating agent, dispensers, resins, fibers and beads
* * * * * * *
Styrene, copolymers with acrylic acid and/or methacrylic acid, with none and/or one or more of the following monomers: acrylamidopropyl methyl sulfonic acid, methallyl sulfonic acid, 3-sulfopropyl acrylate, 3-sulfopropyl methacrylate, hydroxypropyl methacrylate, hydroxypropyl acrylate, hydroxyethyl methacrylate, and/or hydroxy-ethyl acrylate; and its sodium, potassium, ammonium, monoethanolamine, and triethanolamine salts; the resulting polymer having a minimum number average molecular weight (in amu) of 1,200. | Not to exceed 25% in formulated product | Carriers, adhesives, binders, suspending and dispersing agents, related adjuvants in pesticide formulations
* * * * * * *
Tetraethoxysilane, polymer with hexamethyldisiloxane, 6,500 minimum number average molecular weight (in amu) (CAS Reg. No. 104133-09-7) |  | Antifoam agent
* * * * * * *
Vinyl acetate polymer with none and/or one or more of the following monomers: ethylene, propylene, N-methyl acrylamide, acrylamide, monoethyl maleate, diethyl maleate, monooctyl maleate, dioctyl maleate, maleic anhydride, maleic acid, octyl acrylate, butyl acrylate, ethyl acrylate, methyl acrylate, acrylic acid, octyl methacrylate, butyl methacrylate, ethyl methacrylate, methyl methacrylate, methacrylic acid carboxyethyl acrylate, and diallyl phthalate; and their corresponding sodium, potassium, ammonium, isopropylamine, triethylamine, monoethanolamine and/or triethanolamine salts; the resulting polymer having a minium number average molecular weight (in amu) 1200. |  | Components of films, binders, carriers, adhesives, or related adjuvants
Vinyl alcohol-vinyl acetate copolymer, benzaldehyde-o-sodium sulfonate condensate, minimum number average molecular weight (in amu) 20, 000 |  | Water soluble resin
Vinyl pyrrolidone-acrylic acid copolymer (CAS Reg. No. 28062-44-4), minimum number average molecular weight (in amu) 6,000 |  | Adhesive, dispersion stabilizer and coating for sustained release granules
* * * * * * *

ii. The table in paragraph (e) is amended by removing the entries listed below:

Inert ingredients | Limits | Uses
* * * * * * *
Acrylic acid, styrene, α-methyl styrene copolymer, ammonium salt (CAS Reg. No. 89678-90-0), minimum number average molecular weight (in amu) 1250 |  | Encapsulating agent, dispensers, resins, fibers and beads
Acrylic acid terpolymer, partial sodium salt (CAS Reg. No.151006-66-5), minimum number average molecular weight (in amu) 2,400 |  | Dispersant
Acrylic polymers composed of one or more of the following monomers: Acrylic acid, methyl acrylate, ethyl acrylate, butyl acrylate, hydroxyethyl acrylate, hydroxypropyl acrylate, hydroxybutyl acrylate, carboxyethyl acrylate, methacrylic acid, methyl methacrylate, ethyl methacrylate, butyl methacrylate, isobutyl methacrylate, hydroxyethyl methacrylate, hydroxypropyl methacrylate, hydroxybutyl methacrylate, lauryl methacrylate, and stearyl methacrylate; with none and/or one or more of the following monomers: Acrylamide, N-methyl acrylamide, N-octylacrylamide, maleic anhydride, maleic acid, monoethyl maleate, dietyl maleate, monooctyl maleate, dioctyl maleate; and their corresponding sodium, potassium, ammonium, isopropylamine, triethylamine, monoethanolamine, and/or triethanolamine salts; the resulting polymer having a minimum number average molecular weight (in amu) 1,200. |  | Components of films, binders, carriers, adhesives, or related adjuvants
* * * * * * *
α-alkyl (C12-C15)-ω-hydroxypoly (oxypropylene)poly (oxyethylene)copolymers (where the poly(oxypropylene) content is 3-60 moles and the poly(oxyethylene) content is 5-80 moles), the resulting ethoxylated propoxylated (C12-C15) alcohols having a minimum molecular weight (in amu) of 1,500, CAS Reg. No. 68551-13-3 | Not to exceed 20% of pesticide formulations | Surfactant
* * * * * * *
Butene, homopolymer minimum number average molecular weight (in amu) 1,330 (CAS Reg. No. 9003-29-6) |  | Sticker, surfactant and related adjuvant
Butyl acrylate-vinyl acetate-acrylic acid copolymer (CAS Reg. No. 65405-40-5), minimum number average molecular weight 18,000 daltons |  | Surfactants, related adjuvants or surfactants
* * * * * * *
Dimethyl silicone polymer with silica, Minimum number average molecular weight (in amu) 1,100,000 daltons, CAS Reg. No. 67762-90-7 |  | Moisture barrier, anti-caking agent, anti-settling agent, thickening agent
* * * * * * *
Hexamethyldisilizane, reaction product with silica, Minimum number average molecular weight (in amu) 645,000 daltons, CAS Reg. No. 68909-20-6 |  | Moisture barrier, anti-caking agent, anti-settling agent, thickening agent
* * * * * * *
12-Hydroxystearic acid-polyethylene glycol copolymer) (CAS Reg. No. 70142-34-6) minimum number average molecular weight (in amu) 3,690 |  | Surfactant, dispersing agent, suspending agent, related adjuvant.
* * * * * * *
Maleic anhydride-diisobutylene copolymer, sodium salt (CAS Reg. No. 37199-81-8), minimum number average molecular weight (in amu) 5,000-18,000 |  | Suspending agent and dispersing agent
* * * * * * *
Methacrylic Copolymer (CAS Reg. No. 63150-03-8), minimum number average molecular weight (in amu) 15,000 |  | Inert
* * * * * * *
Methyl methacrylate-methacrylic acid-monomethoxypolyethylene glycol methacrylate copolymer (CAS Reg. No.119724-54-8) minium number average molecular weight (in amu) 2,730 |  | Surfactant, dispersing agent, suspending agent, related adjuvant.
* * * * * * *
Oxirane, methyl-, polymer with oxirane, mono[2-(2-butoxyethoxy) ethyl]ether CAS Reg. No. 85637-75-8), minimum number average molecular weight (in amu) 2,500 | 15% Max | Emulsifier, dispersant, Surfactant or related adjuvant of surfactant.
* * * * * * *
Polyethylene glycol-polyisobutenyl anhydride-tall oil fatty acid (CAS Reg. No. 68650-28-2) minimum number average molecular weight (in amu) 2,960 |  | Surfactant, dispersing agent, suspending agent, related adjuvant.
* * * * * * *
Polyoxyethylated Sorbitol Fatty Acid Esters; the sorbitol solution containing up to 15% water is reacted with 20-50 moles of ethylene oxide and aliphatic alkanoic and/or alkenoic fatty acids C8 through C22 with minor amounts of associated fatty acids; the resulting polyoxyethylene sorbitol ester having a minimum molecular weight (in amu) of 1,300 |  | Dispersants, emulsifiers, surfactants, related adjuvants of surfactants
* * * * * * *
Polyvinylpyrrolidone butylated polymer (CAS Reg. No. 26160-96-3), minimum number-average molecular weight (in amu) 9,500 |  | Surfactants, related adjuvant of surfactants and binder
* * * * * * *
2-Propene-1-sulfonic acid sodium salt, polymer with wthanol and ethenyl acetate, number average molecular weight (in amu) 6,000-12,000 |  | Binding agent
* * * * * * *
Silane, dichloromethyl-, reaction product with silica, Minimum number average molecular weight (in amu) 3,340,000 daltons, CAS Reg. No. 68611-44-9 |  | Moisture barrier, anti-caking agent, anti-settling agent, thickening agent
* * * * * * *
Styrene, 2-ethylhexyl acrylate, butyl acrylate copolymer (CAS Reg. No. 30795-23-4), minimum number average molecular weight (in amu) 4200 |  | Encapsulating agent, dispensers, resins, fibers and beads
Styrene, copolymers with acrylic acid and/or methacrylic acid, with none and/or one or more of the following monomers: acrylamidopropyl methyl sulfonic acid, methallyl sulfonic acid, 3-sulfopropyl acrylate, 3-sulfopropyl methacrylate, hydroxypropyl methacrylate, hydroxypropyl acrylate, hydroxyethyl methacrylate, and/or hydroxy-ethyl acrylate; and its sodium, potassium, ammonium, monoethanolamine, and triethanolamine salts; the resulting polymer having a minimum number average molecular weight (in amu) of 1,200. | Not to exceed 25% in formulated product | Carriers, adhesives, binders, suspending and dispersing agents, related adjuvants in pesticide formulations.
* * * * * * *
Tetraethoxysilane, polymer with hexamethyldisiloxane, 6,500 minimum number average molecular weight (in amu) (CAS Reg. No. 104133-09-7) |  | Antifoam agent
* * * * * * *
Vinyl acetate polymer with none and/or one or more of the following monomers: ethylene, propylene, N-methyl acrylamide, acrylamide, monoethyl maleate, diethyl maleate, monooctyl maleate, dioctyl maleate, maleic anhydride, maleic acid, octyl acrylate, butyl acrylate, ethyl acrylate, methyl acrylate, acrylic acid, octyl methacrylate, butyl methacrylate, ethyl methacrylate, methyl methacrylate, methacrylic acid carboxyethyl acrylate, and diallyl phthalate; and their corresponding sodium, potassium, ammonium, isopropylamine, triethylamine, monoethanolamine and/or triethanolamine salts; the resulting polymer having a minium number average molecular weight (in amu) of 1200. |  | Components of films, binders, carriers, adhesives, or related adjuvants
Vinyl alcohol-vinyl acetate copolymer, benzaldehyde-o-sodium sulfonate condensate, minimum number average molecular weight (in amu) 20,000 |  | Water soluble resin
Vinyl pyrrolidone-acrylic, acid copolymer (CAS Reg. No. 28062-44-4), minimum number average molecular weight (in amu) 6,000 |  | Adhesive, dispersion stabilizer and coating for sustained release granules
* * * * * * *

[FR Doc. 02-12974 Filed 5-23-02; 8:45 am]

BILLING CODE 6560-50-S